DEPARTMENT OF STATE

[Public Notice:11058]

Notice of Receipt of Request From the Government of the Republic of Costa Rica Under Article 9 of the 1970 UNESCO Convention on the Means of Prohibiting and Preventing the Illicit Import, Export and Transfer of Ownership of Cultural Property

AGENCY: Department of State.

ACTION: Notice.

SUMMARY: Notice of receipt of request from Costa Rica for cultural property protection.

FOR FURTHER INFORMATION CONTACT: Allison Davis, Cultural Heritage Center, Bureau of Educational and Cultural Affairs: 202-632-6301; culprop@state.gov.

SUPPLEMENTARY INFORMATION: The Government of the Republic of Costa Rica made a request to the Government of the United States on December 2, 2019, under Article 9 of the 1970 UNESCO Convention on the Means of Prohibiting and Preventing the Illicit Import, Export and Transfer of Ownership of Cultural Property. Costa Rica's request seeks U.S. import restrictions on archaeological material representing Costa Rica's cultural patrimony. Pursuant to the authority vested in the Assistant Secretary of State for Educational and Cultural Affairs, and pursuant to 19 U.S.C. 2602(f)(1), notification of the request is hereby published. A public summary of Costa Rica's request and information about U.S. implementation of the 1970 UNESCO Convention will be available at the Cultural Heritage Center website: http://culturalheritage.state.gov.

Marie Therese Porter Royce,
Assistant Secretary, Bureau of Educational and Cultural Affairs, Department of State.

[FR Doc. 2020-04331 Filed 3-2-20; 8:45 am]

BILLING CODE 4710-05-P